NATIONAL AERONAUTICS AND SPACE ADMINISTRATION

[Notice: (22-015)]

NASA Astrophysics Advisory Committee; Meeting

AGENCY: National Aeronautics and Space Administration.

ACTION: Notice of meeting.

SUMMARY: In accordance with the Federal Advisory Committee Act, the National Aeronautics and Space Administration (NASA) announces a meeting of the Astrophysics Advisory Committee. This Committee reports to the Director, Astrophysics Division, Science Mission Directorate, NASA Headquarters. The meeting will be held for the purpose of soliciting, from the scientific community and other persons, scientific and technical information relevant to program planning.

DATES: Wednesday, March 30, 2022, 11:00 a.m.-5:00 p.m. Eastern Time; and Thursday, March 31, 2022, 11:00 a.m.-5:00 p.m., Eastern Time.

ADDRESSES: Meeting will be virtual only. See WebEx and audio dial-in information below under SUPPLEMENTARY INFORMATION.

FOR FURTHER INFORMATION CONTACT: Mrs. KarShelia Kinard, Science Mission Directorate, NASA Headquarters, Washington, DC 20546, (202) 358-2355, or karshelia.kinard@nasa.gov.

SUPPLEMENTARY INFORMATION: As noted above, this meeting will be available to the public telephonically and by WebEx only. Any interested person may join via Webex Wednesday, March 30, 2022 at https://nasaenterprise.webex.com/nasaenterprise/j.php?MTID=mebf0d01936eb4589c0a0eff3ffacfc2a. The meeting number for Wednesday, March 30, 2022 is 2761 516 5142, and meeting password is APACspring0330#.

Any interested person may join via Webex Thursday, March 31, 2022 https://nasaenterprise.webex.com/nasaenterprise/j.php?MTID=m6bf6d15c8f4ff0c7a965d8f05ea5a25f. The meeting number for Thursday, March 31, 2022 is 2762 891 9996, and the password is APACspring0331#.

You may join by phone by dialing toll number 1-929-251-9612 or 1-415-527-5035, both days.

The agenda for the meeting includes the following topics:

—Astrophysics Division Update

—Updates on Specific Astrophysics Missions

—Reports from the Program Analysis Groups

The agenda will be posted on the Astrophysics Advisory Committee web page: https://science.nasa.gov/researchers/nac/science-advisory-committees/apac.

The public may submit and upvote comments/questions ahead of the meeting through the website https://nasa.cnf.io/sessions/cde7/#!/dashboard that will be opened for input on March 15, 2022. It is imperative that the meeting be held on this date to accommodate the scheduling priorities of the key participants.

Patricia Rausch,
Advisory Committee Management Officer, National Aeronautics and Space Administration.

[FR Doc. 2022-04440 Filed 3-2-22; 8:45 am]

BILLING CODE 7510-13-P